ENVIRONMENTAL PROTECTION AGENCY

[OPP-64047; FRL 6588-5]

Notice of Receipt of Requests for Amendments To Delete Uses in Certain Pesticide Registrations

AGENCY: Environmental Protection Agency (EPA).

ACTION: Notice.

SUMMARY: In accordance with section 6(f)(1) of the Federal Insecticide, Fungicide and Rodenticide Act (FIFRA), as amended, EPA is issuing a notice of receipt of request for amendment by registrants to delete uses in certain pesticide registrations.

DATES: Unless a request is withdrawn, the Agency will approve these use deletions and the deletions will become effective on November 27, 2000.

FOR FURTHER INFORMATION CONTACT: By mail: James A. Hollins, Office of Pesticide Programs (7502C), Environmental Protection Agency, 1200 Pennsylvania Avenue, N.W., Washington, DC 20460. Office location for commercial courier delivery, telephone number, and e-mail address: Rm. 266A, Crystal Mall #2, 1921 Jefferson Davis Highway, Arlington, VA 22202, (703) 305-5761; e-mail: hollins.james@epa.gov

SUPPLEMENTARY INFORMATION:

I. General Information

A. Does This Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Additional information, Including Copies of this Document and Other Related Documents?

1. Electronically. You may obtain electronic copies of this document and certain other related documents that might be available electronically, from the EPA Internet Home Page at http://www.epa.gov. To access this document, on the Home page select “Laws and Regulations” and then look up the entry for this document under the “Federal Register—Environmental Documents.” You can also go directly to the Federal Register listing at http://www.epa.gov/fedrgstr/.

2. In person. Contact James A. Hollins at 1921 Jefferson Davis Highway, Crystal Mall #2, Rm. 224, Arlington, VA, telephone number (703) 305-5761. Available from 7:30 a.m. to 4:45 p.m., Monday through Friday, excluding legal holidays.

II. What Action is the Agency Taking?

This notice announces receipt by the Agency of applications from registrants to delete uses in 27 pesticide registrations. These registrations are listed in the following Table 1 by registration number, product name, active ingredient and specific uses deleted.

Table 1.—Registrations with Requests for Amendments to Delete Uses In Certain Pesticide Registrations
EPA Reg. No. | Product Name | Active Ingredient | Delete From Label
*000352-00400 | Dupont Oxamyl Technical 42 Insecticide/Nematicide | Oxamyl | Non-bearing plum, non-bearing strawberry
000432-00663 | Tetramethrin Technical 95% | Tetramethrin | Greenhouse uses
000432-00789 | TetraPerm 8-20-40 WB Concentrate | Piperonyl butoxide; Tetramethrin; Permethrin, mixed cis, trans | Greenhouse uses
000432-00791 | TetraPerm Total Release Indoor Fogger Q3 | Piperonyl butoxide; Tetramethrin; Permethrin, mixed cis, trans | Greenhouse uses
000432-00793 | TetraPerm Total Release Indoor Fogger Q4 | Piperonyl butoxide; Tetramethrin; Permethrin, mixed cis, trans | Greenhouse uses
000432-00794 | TetraPerm Total Release Indoor Fogger Q5 | Piperonyl butoxide; Tetramethrin; Permethrin, mixed cis, trans | Greenhouse uses
000498-00163 | SprayPak Indoor Insect Fogger Formula 6 | Piperonyl butoxide; Tetramethrin; Permethrin, mixed cis, trans | Greenhouse uses
001021-01652 | EVERICIDE Intermediate 2666 | Tetramethrin; Esfenvalerate | Greenhouse uses
001021-01667 | EVERICIDE House & Garden Spray 2664 | Tetramethrin; Permethrin, mixed cis, trans | Greenhouse uses
001021-01715 | EVERICIDE House & Garden Spray 21321 | Tetramethrin; Permethrin, mixed cis, trans | Greenhouse uses
002724-00450 | Zoecon 9001 EW | Propetamphos | Food/feed warehouses
004816-00391 | Tetralate 25-20.6 WB Concentrate | Tetramethrin; Resmethrin | Greenhouse uses
004816-00392 | Tetralate Intermediate Con centrate | Tetramethrin; Resmethrin | Greenhouse uses
004816-00493 | Tetralate Multi-Purpose Insect Killer | Tetramethrin; Resmethrin | Greenhouse uses
004816-00499 | Tetralate 2.0-0.44 WB | Tetramethrin; Resmethrin | Greenhouse uses
004816-00500 | Tetralate 26.64-5.85 WB | Tetramethrin; Resmethrin | Greenhouse uses
004816-00503 | Tetralate General Purpose 0.25-0.25% Insect Killer | Tetramethrin; Resmethrin | Greenhouse uses
004816-00504 | Tetralate 2.5-2.5 WB | Tetramethrin; Resmethrin | Greenhouse uses
004816-00505 | Tetralate 16.670-7.065 | Tetramethrin; Resmethrin | Greenhouse uses
004816-00506 | Tetralate 20.84-20.84 WB | Tetramethrin; Resmethrin | Greenhouse uses
004816-00509 | Biotetralate 0.25-0.054 Pressurized Insecticide Spray | Tetramethrin; Bioresmethrin | Greenhouse uses
004816-00760 | TetraPerm Total Release Indoor Fogger N 104 | Piperonyl butoxide; Permethrin, mixed cis, trans; Te tramethrin | Greenhouse uses
010308-00001 | Neo-Pynamin Technical Grade | Tetramethrin | Greenhouse uses
011715-00264 | Neoperm Total Release Indoor Fogger | Piperonyl butoxide; Tetramethrin; Permethrin, mixed cis, trans | Greenhouse uses
011715-00278 | Neoperm Total Release Indoor Fogger IV | Piperonyl butoxide; Tetramethrin; Permethrin, mixed cis, trans | Greenhouse uses
059906-00003 | Py-Tech 1.5% + 15% Insecticide | Piperonyl butoxide; Pyrethrins | Use on dogs
059906-00004 | Syn-Tech 2.5% + 10% Insecticide | Piperonyl butoxide; Resmethrin | Use on dogs
Note: * 30-day comment period

Users of these products who desire continued use on crops or sites being deleted should contact the applicable registrant before November 27, 2000 to discuss withdrawal of the application for amendment. This 180-day period will also permit interested members of the public to intercede with registrants prior to the Agency's approval of the deletion.

The following Table 2, includes the names and addresses of record for all registrants of the products in Table 1, in sequence by EPA company number.

Table 2.—Registrants requesting Amendments to Delete Uses in Certain Pesticide Registrations
EPA Company Number | Company Name and Address
000352 | DuPont Agricultural Products, Registration/Regulatory Affairs, Walker's Mill, Barley Mill Plaza, P.O. Box 80038, Wilmington, DE 19880.
000432 | AgrEvo Environmental Health, 95 Chestnut Ridge Road, Montvale, NJ 07645.
000498 | Chase Products Co., P.O. Box 70, Maywood, IL 60153.
001021 | McLaughlin Gormley King Co., 8810 Tenth Avenue North, Minneapolis, MN 55427.
002724 | Wellmark International, 1000 Tower Lane, Bensenville, IL 60106.
004816 | AgrEvo Environmental Health, 95 Chestnut Ridge Road, Montvale, NJ 07645.
010308 | Sumitomo Chemical Co., Ltd., 1330 Dillon Heights Ave., Baltimore, MD 21228.
059906 | Pro-Tech Livestock Corp., P.O. Box 1450, Tomball, TX 77375.
011715 | Speer Products, Inc., P.O. Box 18993, Memphis, TN 38181.

III. What is the Agency Authority for Taking This Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. How and to Whom Do I Submit Withdrawal Requests?

1. By mail. Registrants who choose to withdraw a request for use deletion must submit such withdrawal in writing to James A. Hollins, at the address given above, postmarked November 27, 2000.

2. In Person or by courier. Deliver your withdrawal request to: Document Processing Desk (DPD), Information Services Branch, Office of Pesticide Programs, Environmental Protection Agency, Rm. 266A, Crystal Mall #2, 1921 Jefferson Davis Highway, Arlington, VA. The DPD is open from 8:00 a.m. to 4:30 p.m., Monday through Friday, excluding legal holidays. The DPD telephone number is (703) 305-5263.

3. Electronically. You may submit your withdrawal request electronically by e-mail to: hollins.james@epa.gov. Do not submit any information electronically that you consider to be CBI. Avoid the use of special characters and any form of encryption. Electronic submissions will be accepted in WordPerfect 6.1/8.0 or ASCII file format.

V. Provisions for Disposition of Existing Stocks

The Agency has authorized the registrants to sell or distribute product under the previously approved labeling for a period of 18 months after approval of the revision, unless other restrictions have been imposed, as in special review actions.

List of Subjects

Environmental protection, Pesticides and pests, Product registrations.

Dated: May 16, 2000.
Richard D. Schmitt,
Acting Director, Information Resources Services Division, Office of Pesticide Programs.

[FR Doc. 00-13562 Filed 5-30-00; 8:45 am]

BILLING CODE 6560-50-F